DEPARTMENT OF ENERGY

[FE Docket No. 02-59-NG]

Office of Fossil Energy, Midland Cogeneration Venture Limited Partnership; Order Granting Long-Term Authority To Import Natural Gas From Canada

AGENCY: Office of Fossil Energy, DOE.

ACTION: Notice of order.

SUMMARY: The Office of Fossil Energy (FE) gives notice that on September 12, 2002, it issued DOE/FE Order No. 1807 granting Midland Cogeneration Venture Limited Partnership (MCV) authority to import up to 10,000 Mcf per day of natural gas from Canada, beginning on November 1, 2001, and extending through October 31, 2004. The natural gas will be imported from Husky Oil at Noyes, Minnesota, and will be used to generate electricity and process steam at a 1,370-megawatt, natural gas-fired, combined-cycle, cogeneration facility which MCV operates in Midland, Michigan.

This Order may be found on the FE web site at http://www.fe.doe.gov (select gas regulation), or on the electronic bulletin board at (202) 586-7853. It is also available for inspection and copying in the Office of Natural Gas & Petroleum Import & Export Activities Docket Room, 3E-033, Forrestal Building, 1000 Independence Avenue, SW., Washington, DC 20585-0334, (202) 586-9478. The Docket Room is open between the hours of 8 a.m. and 4:30 p.m., Monday through Friday, except Federal holidays.

Issued in Washington, DC, September 16, 2002.
Clifford Tomaszewski,
Manager, Natural Gas Regulation, Office of Natural Gas & Petroleum, Import & Export Activities, Office of Fossil Energy.

[FR Doc. 02-24075 Filed 9-20-02; 8:45 am]

BILLING CODE 6450-01-P